DEPARTMENT OF THE INTERIOR

Bureau of Land Management

[LLORV00000.16100000.DO0000.LXSS072H0000 HAG10-0083]

Notice of Intent To Prepare Amendments to the Southeastern Oregon Resource Management Plan (RMP), Malheur County, OR, and the Lakeview RMP, Lake County, OR, and Associated Environmental Impact Statements.

AGENCY: Bureau of Land Management, Interior.

ACTION: Notice of Intent.

SUMMARY: In compliance with the National Environmental Policy Act of 1969, as amended, (NEPA) and the Federal Land Policy and Management Act of 1976, as amended, (FLPMA) the Bureau of Land Management (BLM) Vale District (Jordan Resource Area and Malheur Resource Area) and Lakeview District (Lakeview Resource Area) in southeastern Oregon intend to prepare Environmental Impact Statements (EISs) to amend the Southeastern Oregon RMP (September 2002), Vale, Oregon, and the Lakeview RMP (January 2003), Lakeview, Oregon, and by this notice are announcing the beginning of the scoping process to solicit public comments and identify issues.

DATES: This notice initiates the public scoping process for the two RMP amendments with associated EISs. Comments on issues may be submitted in writing until July 7, 2010. The date(s) and location(s) of any scoping meetings will be announced at least 15 days in advance through local media, newspapers and the BLM Web sites at: http://www.blm.gov/or/districts/vale/plans/valermp.php and http://www.blm.gov/or/districts/lakeview/plans/lakeviewrmp.php. In order to be included in the Draft EISs, all comments must be received prior to the close of the 90-day scoping period or within 30 days after the last public meeting, whichever is later. We will provide additional opportunities for public participation upon publication of both Draft EISs.

ADDRESSES: You may submit comments on issues related to the Southeastern Oregon RMP Amendment/EIS by any of the following methods:

• Web site: http://www.blm.gov/or/districts/vale/plans/valermp.php.

• E-mail: SEORMP@blm.gov.

• Fax: 541-473-3144.

• Mail: Bureau of Land Management, Vale District Office, 100 Oregon St., Vale, Oregon 97918.

You may submit comments on issues and planning criteria related to the Lakeview RMP Amendment/EIS by any of the following methods:

• E-mail: paul_whitman@blm.gov.

• Fax: 541-947-6399.

• Mail: Bureau of Land Management, Lakeview District Office, 1301 South G Street, Lakeview, Oregon 97630.

Documents pertinent to these proposals may be examined at the Vale and Lakeview District Offices.

FOR FURTHER INFORMATION CONTACT: For further information and/or to have your name added to our mailing lists, contact Jill Silvey, Southeastern Oregon and Lakeview RMP Project Manager, telephone (541) 473-3144; address 100 Oregon Street, Vale, Oregon 97918; e-mail SEORMP@blm.gov, or Paul Whitman, Lakeview District Planner, telephone (541) 947-6110; address, 1301 South G Street, Lakeview, Oregon 97630; e-mail paul_whitman@blm.gov.

SUPPLEMENTARY INFORMATION: This document provides notice that the BLM Vale and Lakeview District Offices intend to prepare RMP Amendments with associated EISs for the Southeastern Oregon and Lakeview planning areas. The two planning areas are located in Malheur, Lake, Harney, and Grant Counties in Oregon and encompass approximately 4.6 million acres of public land in the Southeastern Oregon planning area and approximately 3.2 million acres of public land in the Lakeview planning area. After the BLM completed the Southeastern Oregon RMP and the Lakeview RMP in 2002 and 2003, respectively, separate lawsuits were filed challenging each RMP. On July 14, 2008, the Ninth Cicuit ruled on the Southeastern Oregon RMP in Oregon Natural Desert Association v. Bureau of Land Management, 531 F.3d 1114 (9th Cir. 2008). Soon thereafter, the BLM filed a petition for panel rehearing of the Court's remedy (vacatur of the Record of Decision). The matter has been stayed during settlement negotiations. The Ninth Circuit stayed litigation regarding similar challenges to the Lakeview RMP in Oregon Natural Desert Association v. Gammon, No. 07-35728 (9th Cir.), pending resolution of the Southeastern Oregon RMP case, and to allow for settlement negotiations between the parties. The BLM is preparing RMP Amendments/EISs consistent with the 2008 holding of the Ninth Circuit.

The two RMP Amendments/EISs plan to address the following issues:

• Consideration of information from updates of resource information related to wilderness characteristics;

• Development of a range of allocation alternatives with respect to ORV use, travel, and transportation; and

• Development of grazing management alternative(s).

The purpose of the public scoping processes is to determine other relevant issues that will influence the scope of the environmental analyses, including alternatives, and guide the planning processes.

The BLM has also identified some preliminary planning criteria to guide development of the RMP Amendments, to avoid unnecessary data collection and analysis, and to ensure the RMP Amendments are tailored to the issues. These criteria may be modified and/or other criteria may be identified during the public scoping process. Preliminary planning criteria include compliance with all legal mandates of the FLPMA, the NEPA, the Federal Advisory Committee Act, the Administrative Procedures Act, the BLM planning regulations in 43 CFR part 1600, and other relevant laws. The following planning criteria will also guide the planning processes:

• The principles of multiple-use and sustained yield will be observed;

• A systematic interdisciplinary approach to integrate, physical, biological, economic, and other sciences will be used;

• Priority will be given to the designation and protection of Areas of Critical Environmental Concern;

• The best available data regarding natural resources will be used, to the extent possible;

• Present and potential uses of public lands will be considered;

• The relative scarcity of values and availability of alternative means and sites for recognizing those values will be considered;

• Long term benefits to the public against short term benefits will be weighed;

• Tribal, Federal, and state pollution laws, standards and implementation plans will be complied with, to the extent possible; and

• Consistency and coordination with other programs, plans and policies will be sought.

You may submit comments on issues and planning criteria in writing to the BLM at any public scoping meeting, or you may submit them to the BLM using one of the methods listed in the ADDRESSES section above. To be most helpful, you should submit comments either prior to the close of the 90-day scoping period or within 30 days after the last public meeting. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the RMP Amendments, and will place them into one of three categories:

1. Issues to be resolved in the plan amendment;

2. Issues to be resolved through policy or administrative action; or

3. Issues beyond the scope of the plan amendments.

The BLM will provide an explanation in the Draft RMP Amendments/EISs as to why an issue was placed in category two or three. The public is also encouraged to help identify any management questions and concerns that should be addressed in the RMP Amendments. The BLM will work collaboratively with interested parties to identify the management decisions that are best suited to local, regional, and national needs and concerns.

The BLM will use an interdisciplinary approach to develop the RMP Amendments in order to consider the variety of resource issues and concerns identified. At a minimum, specialists with expertise in the following disciplines will be involved in the planning processes: Rangeland management, wilderness, travel management, recreation, and wildlife.

Authority: 40 CFR 1501.7; 43 CFR 1610.2.

Larry Frazier,
Acting Vale District Manager.
Carol Benkosky,
Lakeview District Manager.

[FR Doc. 2010-7986 Filed 4-7-10; 8:45 am]

BILLING CODE 4310-33-P